DEPARTMENT OF THE INTERIOR

National Park Service

[NPS-WASO-NRSS-xxxx-xxxx; 2330-RYY]

Agency Information Collection Activities: Proposed Information Collection; Colorado River Valuation Survey

AGENCY: National Park Service.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor, and a person is not required to respond to, a collection of information unless it displays a currently valid OMB control number.

DATES: Public comments must be submitted on or before April 11, 2011.

ADDRESSES: Direct all written comments on this IC to Dr. Bruce Peacock, Chief, Social Science Division, Natural Resource Program Center, National Park Service, 1201 Oakridge Drive, Fort Collins, CO 80525-5596 (mail); Bruce_Peacock@nps.gov (e-mail); or 970-267-2106 (phone).

FOR FURTHER INFORMATION CONTACT: Dr. John Duffield, University of Montana, Department of Mathematical Sciences, Missoula, MT 5981; bioecon@montana.com (e-mail); or: 406-721-2265 (phone).

SUPPLEMENTARY INFORMATION:

I. Abstract

The National Park Service (NPS) Act of 1916, 38 Stat 535, 16 U.S.C. 1, et seq., requires that the NPS preserve national parks for the use and enjoyment of present and future generations. At the field level, this means resource preservation, public education, facility maintenance and operation, and physical developments that are necessary for public use, health, and safety. Other federal rules (National Environmental Policy Act, 1969 and NPS guidelines) require visitor use data in impact assessment of development on users and resources as part of each park's general management plan.

The NPS plans to conduct on-site and nationwide surveys to estimate the value of visitation and the associated relationship of water flows along the Colorado River. This collection will provide park managers and others with information about the values visitors to Colorado River, NPS units, and non-users nationwide place on these national resources.

This notice will cover the development and pretesting of the final survey instrument.

II. Data

OMB Number: None. This is a new collection.

Title: Colorado River Valuation Survey.

Type of Request: New.

Affected Public: General public; Individual households.

Respondent Obligation: Voluntary.

Frequency of Collection: One-time; on occasion.

Estimated Number of Annual Responses: 5,915.

Annual Burden Hours: 1,972 hours. We estimate the public reporting burden averages 20 minutes per response.

Estimated Reporting and Recordkeeping “Non-Hour Cost” Burden: We have not identified any “non-hour cost” burdens associated with this collection of information.

III. Request for Comments

Comments are invited on: (1) The practical utility of the information being gathered; (2) the accuracy of the burden hour estimate; (3) ways to enhance the quality, utility, and clarity of the information to be collected; and (4) ways to minimize the burden to respondents, including use of automated information techniques or other forms of information technology.

Please note that the comments submitted in response to this notice are a matter of public record. We will include or summarize each comment in our request to OMB to approve this IC. Before including your address, phone number, e-mail address, or other personal identifying information in your comment, you should be aware that your entire comment, including your personal identifying information, may be made publicly available at any time. While you can ask OMB in your comment to withhold your personal identifying information from public review, we cannot guarantee that it will be done.

Dated: February 3, 2011.
Robert Gordon,
Information Collection Clearance Officer, National Park Service.

[FR Doc. 2011-2736 Filed 2-7-11; 8:45 am]

BILLING CODE 4312-52-P